DEPARTMENT OF THE INTERIOR

National Park Service

National Register of Historic Places; Notification of Pending Nominations

Nominations for the following properties being considered for listing in the National Register were received by the National Park Service before December 29,2001. Pursuant to section 60.13 of 36 CFR part 60 written comments concerning the significance of these properties under the National Register criteria for evaluation may be forwarded by United States Postal Service, to the National Register of Historic Places, National Park Service, 1849 C St. NW, NC400, Washington, DC 20240; by all other carriers, National Register of Historic Places, National Park Service, 800 N. Capitol St.NW, Suite 400, Washington DC 20002; or by fax, 202-343-1836. Written or faxed comments should be submitted by January 28, 2002.

Carol D. Shull,
Keeper of the National Register of Historic Places.

CONNECTICUT

Hartford County

Clark Farm Tenant House Site,Address Restricted,East Granby, 01001554.

GEORGIA

Fulton County

Spotswood Hall,(West Paces Ferry Road MRA)555 Argonne Dr., NW,Atlanta, 01001556.

Meriwether County

Greenville Presbyterian Church and Cemetery, Greenville Rocky Mount Rd, off GA41/US27 Alt.,Greenville, 01001555.

MASSACHUSETTS

Middlesex County

Old Burying Ground, King St., near jct. with White St.,Littleton, 01001560.

Suffolk County

Boston Consumptives Hospital, 249 River St., Boston, 01001557.

Immaculate Conception Rectory, 108 Beach St., Revere, 01001559.

Worcester County

Blackstone Viaduct, Canal, Farnum and Mill Sts., Blackstone, 01001558.

MISSISSIPPI

Chickasaw County

Okolona Historic District, Roughly bounded by Fleming, Monroe, Buchanan, and Washington Sts.,Okolona, 01001561.

NEW YORK

Monroe County

Immanuel Baptist Church, 815 Park Ave., Rochester, 01001566.

Pulaski Library, 1151 Hudson Ave., Rochester, 01001562.

Ontario County

Cronkite, Jeremiah, House, 1095 Lynaugh Rd., Victor, 01001563.

Howe, Dr. John Quincy, House, 66 Main St., Phelps, 01001564.

Orleans County

Tousley—Church House, 249 N. Main St., Albion, 01001565.

TENNESSEE

Putnam County

Broad Street Church of Christ, 157 W. Broad St.,Cookeville, 01001567.

VIRGINIA

Botetourt County

Greyledge, 1066 Greyledge Rd., Buchanan, 01001571.Galax (Independent City)

Felts, Gordon C., House, 404 N. Main St., Galax (Independent City), 01001572.

Prince George County

Aberdeen, 15301 James River Dr., Disputanta, 01001569.

Richmond Independent City

Laburnum Park Historic District, Westwood, Palmyra, Confederate, Wilmington, W. Laburnum Aves., Chatham,Gloucester and Lamont Sts.,Richmond (Independent City), 01001573.

Rockbridge County

Cedar Hill Church and Cemeteries, Cedar Hill Church Rd. and Kygers Hill Rd.,Lexington, 01001570.

Shenandoah County

Beydler, Abraham, House, 2748 Zion Church Rd., Maurertown, 01001568.

[FR Doc. 02-731 Filed 1-10-02; 8:45 am]

BILLING CODE 4310-70-P